ENVIRONMENTAL PROTECTION AGENCY

[EPA-HQ-OPP-2018-0014; FRL-10009-98]

Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows a February 4, 2020 Federal Register Notice of Receipt of Requests from the registrants listed in Table 3 of Unit II to voluntarily cancel and amend to terminate uses of these product registrations. In the February 4, 2020 notice, EPA indicated that it would issue an order implementing the cancellations and amendments to terminate uses, unless the Agency received substantive comments within the 30-day comment period that would merit its further review of these requests, or unless the registrants withdrew their requests. The Agency had intended to publish this new version instead of the previous version which published by mistake on May 4, 2020; therefore, this Cancellation Order replaces the previous notice. The Agency received one comment on the notice. As a result, product 3573-73 is not included in this cancellation order. See Unit III for further information. Accordingly, EPA hereby issues in this notice a cancellation order granting the requested cancellations and amendments to terminate uses. Any distribution, sale, or use of the products subject to this cancellation order is permitted only in accordance with the terms of this order, including any existing stocks provisions.

DATES: The cancellations and amendments are effective June 5, 2020.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

II. What action is the Agency taking?

This notice announces the cancellations and amendments to terminate uses, as requested by registrants, of products registered under FIFRA section 3 (7 U.S.C. 136a). These registrations are listed in sequence by registration number in Table 1 and Table 2 of this unit.

Table 1—Product Cancellations
Registration No. | Company No. | Product name | Active ingredients
464-8123 | 464 | Filmguard IPBC 100 Fungicidal Agent (Active), Bioban IPBC 100 Antimicrobial (Alternate) | Carbamic acid, butyl-, 3-iodo-2-propynyl ester.
464-8125 | 464 | Filmguard IPBC 20 Fungicidal Agent (Active), Bioban IPBC 20 Antimicrobial and Bioban IPBC 20 LE (Alternate) | Carbamic acid, butyl-, 3-iodo-2-propynyl ester.
499-322 | 499 | Whitmire Avert PT 300 Pressurized Spray | Abamectin.
499-383 | 499 | Whitmire Avert PT 310 HO Abamectin Bait Dust | Abamectin.
499-394 | 499 | Whitmire Avert Prescription Treatment 320 Crack & Crevice Gel Bait | Abamectin.
499-406 | 499 | Avert Prescription Treatment TC 93A Bait | Abamectin.
499-410 | 499 | Avert Prescription Treatment TC 93B Bait | Abamectin.
499-434 | 499 | Whitmire TC 149A Insecticide | Abamectin.
499-440 | 499 | Whitmire TC 149B | Abamectin.
499-467 | 499 | Whitmire Avert TC 181 | Abamectin.
1448-100 | 1448 | Busan 1069 | 2-(Thiocyanomethylthio)benzothiazole.
1448-341 | 1448 | Busan 1127 | 2-(Thiocyanomethylthio)benzothiazole.
4959-34 | 4959 | YYY Disinfectant | Iodine.
5185-498 | 5185 | Bioguard Crystal Blue Mineral Cartridge | Silver nitrate.
7364-60 | 7364 | Spa/Hot Tub Products Chlorinating Concentration Granular | Sodium dichloro-s-triazinetrione.
7969-189 | 7969 | Baseline Plant Regulator | Prohexadione calcium.
8378-54 | 8378 | Gro-Fine Bayleton Fungicide | Triadimefon.
8378-55 | 8378 | Shaw's Fungicide 100 | Triadimefon.
9198-187 | 9198 | Andersons Golf Products Fungicide VII | Triadimefon.
9198-190 | 9198 | Andersons Golf Products Fertilizer Plus Fungicide VII | Triadimefon.
9386-7 | 9386 | AMA-31 | Nabam & Sodium dimethyldithiocarbamate.
9386-11 | 9386 | AMA-30 | Nabam & Sodium dimethyldithiocarbamate.
9386-23 | 9386 | AMA-9 | Nabam & Sodium dimethyldithiocarbamate.
10324-18 | 10324 | Algaesil | Nanosilver 002.
10324-165 | 10324 | Maquat MC1416-90% | Alkyl* dimethyl benzyl ammonium chloride *(60%C14, 30%C16, 5%C18, 5%C12).
33677-1 | 33677 | Tolcide(R) MBT | Methylene bis(thiocyanate).
34688-76 | 34688 | Aquatreat DNM-30 | Nabam & Sodium dimethyldithiocarbamate.
34688-77 | 34688 | Aquatreat KM | Potassium dimethyldithiocarbamate.
34688-78 | 34688 | Aquatreat SDM | Sodium dimethyldithiocarbamate.
34688-79 | 34688 | Aquatreat DN-30 | Nabam.
34704-882 | 34704 | Oryzalin T&O | Oryzalin.
34704-918 | 34704 | Ethofume SC Herbicide | Ethofumesate.
34704-949 | 34704 | Intensity Max | Clethodim.
35917-2 | 35917 | Iodinated Resin H-465 | Iodine.
45309-12 | 45309 | Spa Clear Spa Chlor-56 | Sodium dichloro-s-triazinetrione.
45309-21 | 45309 | Aqua Clear Iso-Gran | Sodium dichloro-s-triazinetrione.
45309-59 | 45309 | Aqua Clear Aqua-Shock | Sodium dichloro-s-triazinetrione.
45309-61 | 45309 | Aqua Clear Winterizer | Sodium dichloro-s-triazinetrione.
45309-84 | 45309 | Red Plug Cartridge with Concentrated Chlorinated Tablets | Trichloro-s-triazinetrione.
45309-94 | 45309 | Speed-Y-Tabs | Sodium dichloroisocyanurate dihydrate.
62719-694 | 62719 | MON 89034 X TC1507 X MIR162 | Bacillus thuringiensis Vip3Aa20 protein encoded by vector pNOV1300 in event MIR162 corn (SYN-IR162-4), % dw; Bacillus thuringiensis Cry1F protein and the genetic material necessary for its production (plasmid insert PHI8999) in corn; Bacillus thuringiensis Cry2Ab2 protein and the genetic material necessary (vector PV-ZMIR245) for its production in corn & Bacillus thuringiensis Cry1A.105 protein and genetic material necessary (vector PV-ZMIR245) for its production in corn.
67262-18 | 67262 | 3” Stabilized Chlorinator Tablets | Trichloro-s-triazinetrione.
70506-50 | 70506 | Surflan 85DF | Oryzalin.
70506-51 | 70506 | Turf Fertilizer Contains Surflan 1% | Oryzalin.
70506-52 | 70506 | Turf Fertilizer Contains Surflan 0.75% | Oryzalin.
70506-53 | 70506 | Up-Shot DF Herbicide | Oryzalin & Isoxaben.
70506-54 | 70506 | Surflan 75W | Oryzalin.
70506-55 | 70506 | Turf Fertilizer Contains Galley Plus Surflan | Oryzalin & Isoxaben.
70506-96 | 70506 | Oryza Ag | Oryzalin.
70506-97 | 70506 | Oryza T&O | Oryzalin.
72616-9 | 72616 | Taratek TC | Triadimefon & Cyproconazole.
85678-55 | 85678 | Flucarbazone 35% SC | Flucarbazone-sodium.
87262-4 | 87262 | Compass THPS | Tetrakis(hydroxymethyl)phosphonium sulphate (THPS).
87262-6 | 87262 | Compass THPS 50 | Tetrakis(hydroxymethyl)phosphonium sulphate (THPS).
87262-7 | 87262 | Compass THPS 35 | Tetrakis(hydroxymethyl)phosphonium sulphate (THPS).
87262-8 | 87262 | Compass THPS 20 | Tetrakis(hydroxymethyl)phosphonium sulphate (THPS).
88276-1 | 88276 | Octopol DSM-30 | Nabam & Sodium dimethyldithiocarbamate.
89442-2 | 89442 | Ethofumesate Select | Ethofumesate.
91813-24 | 91813 | Agvalue Oryzalin Technical | Oryzalin.
AL-870002 | 400 | Dimilin 25W for Cotton/Soybean | Diflubenzuron.
CA-100013 | 63206 | Lorsban Advanced | Chlorpyrifos.
CA-790138 | 5481 | Orthene 75 S Soluble Powder | Acephate.
CA-950010 | 5481 | Fruit Fix Concentrate 200 | Ammonium 1-naphthaleneacetate.
CO-070003 | 71512 | Omega 500F | Fluazinam.
CO-080008 | 62719 | Lorsban Advanced | Chlorpyrifos.
CO-090005 | 71512 | Beleaf 50SG Insecticide | Flonicamid.
CO-140002 | 1381 | Carnivore Herbicide | MCPA, 2-ethylhexyl ester; Bromoxynil octanoate & Fluroxypyr-meptyl.
HI-090001 | 62719 | Lorsban Advanced | Chlorpyrifos.
WA-000035 | 352 | Curzate 60DF | Cymoxanil.
WA-020019 | 62719 | NAF-522 | Glyphosate-isopropylammonium.

Table 2—Product Registration Amendments To Terminate Uses
Registration No. | Company No. | Product name | Active ingredient | Uses to be terminated
45728-7 | 45728 | Ferbam Granuflo | Ferbam | Grapes and cherries.
45728-14 | 45728 | Thionic Ziram Technical | Ziram | Industrial yarns and fabrics.

Table 3 of this unit includes the names and addresses of record for all the registrants of the products listed in Tables 1 and 2 of this unit, in sequence by EPA company number. This number corresponds to the first part of the EPA registration numbers of the products listed in Table 1 and Table 2 of this unit.

Table 3—Registrants of Cancelled and Amended Products
EPA company No. | Company name and address
352 | E. I. Du Pont De Nemours and Company, 9330 Zionsville Road, Indianapolis, IN 46268.
400 | MacDermid Agricultural Solutions, Inc., C/O Arysta LifeScience North America, LLC, Agent Name: UPL NA, Inc., 630 Freedom Business Center, #402, King of Prussia, PA 19406.
464 | DDP Specialty Electronic Materials US, Inc., A Wholly Owned Subsidiary of The Dow Chemical Company, 1501 Larkin Center Drive, Midland, MI 48674.
499 | BASF Corporation, 26 Davis Drive, P.O. Box 13528, Research Triangle Park, NC 27709-3528.
1381 | Winfield Solutions, LLC, P.O. Box 64589, St. Paul, MN 55164-0589.
1448 | Buckman Laboratories, Inc., 1256 North Mclean Blvd., Memphis, TN 38108.
4959 | West Agro, Inc., 11100 N Congress Ave., Kansas City, MO 64153.
5185 | Bio-Lab, Inc., P.O. Box 300002, Lawrenceville, GA 30049-1002.
5481 | AMVAC Chemical Corporation, 4695 MacArthur Court, Suite 1200, Newport Beach, CA 92660-1706.
7364 | Innovative Water Care, LLC, D/B/A GLB Pool & Spa, 1400 Bluegrass Lakes Parkway, Alpharetta, GA 30004.
7969 | BASF Corporation, Agricultural Products, 26 Davis Drive, P.O. Box 13528, Research Triangle Park, NC 27709-3528.
8378 | Knox Fertilizer Company, Inc., Agent Name: Fred Betz Regulatory Strategies, 922 Melvin Road, Annapolis, MD 21403.
9198 | The Andersons, Inc., 1947 Briarfield Blvd., P.O. Box 119, Maumee, OH 43537.
9386 | Kemira Chemicals, Inc., 1000 Parkwood Circle, Suite 500, Atlanta, GA 30339.
10324 | Mason Chemical Company, 9075 Centre Pointe Dr., Suite 400, West Chester, OH 45069.
33677 | Solvay Solutions UK Limited, Agent Name: Delta Analytical Corporation, 12510 Prosperity Drive, Suite 160, Silver Spring, MD 20904.
34688 | Akzo Nobel Surface Chemistry, LLC, 525 W Van Buren St., Chicago, IL 60607-3823.
34704 | Loveland Products, Inc., P.O. Box 1286, Greeley, CO 80632-1286.
35917 | Hybrid Technologies Corporation, Agent Name: RegWest Company, LLC, 8209 West 20th Street, Suite B, Greeley, CO 80634-4699.
45309 | Aqua Clear Industries, LLC, P.O. Box 2456, Suwanee, GA 30024-0980.
45728 | Taminco US, LLC, A Subsidiary of Eastman Chemical Company, 200 S Wilcox Dr., Kingsport, TN 37660-5147.
62719 | Dow Agrosciences, LLC, 9330 Zionsville Rd., 308/2E, Indianapolis, IN 46268-1054.
63206 | California Citrus Quality Council, 853 Lincoln Way, Suite 206, Auburn, CA 95603.
67262 | Recreational Water Products, Inc., D/B/A Recreational Water Products, P.O. Box 1449, Buford, GA 30515-1449.
70506 | UPL NA, Inc., 630 Freedom Business Center, Suite 402, King of Prussia, PA 19406.
71512 | ISK BioSciences Corporation, 7470 Auburn Road, Suite A, Concord, OH 44077.
72616 | Lonza NZ Limited, Agent Name: Arch Wood Protection, Inc., 3941 Bonsal Road, Conley, GA 30288.
85678 | RedEagle International, LLC, Agent Name: Wagner Regulatory Associates, Inc., P.O. Box 640, Hockessin, DE 19707.
87262 | Italmatch USA Corporation, 5544 Oakdale Road SE, Smyrna, GA 30082.
88276 | Tiarco Chemical Company, 1300 Tiarco Drive S.W., Dalton, GA 30720.
89442 | Prime Source, LLC, Agent Name: Wagner Regulatory Associates, Inc., P.O. Box 640, 7217 Lancaster Pike, Suite A, Hockessin, DE 19707.
91813 | UPL Delaware, Inc., 630 Freedom Business Ctr., # 402, King of Prussia, PA 19406.

III. Summary of Public Comments Received and Agency Response to Comments

During the public comment period provided, EPA received one comment in response to the February 4, 2020 Federal Register notice announcing the Agency's receipt of the requests for voluntary cancellations and amendments to terminate uses of products listed in Tables 1 and 2 of Unit II, on product 3573-73. EPA is holding this registration for further review of the comment, and the Agency has removed product 3573-73 from this cancellation order.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II are canceled and amended to terminate the affected uses. The effective date of the cancellations and amendments listed in Table 1 and Table 2 that are subject of this notice is June 5, 2020. Any distribution, sale, or use of existing stocks of the products identified in Tables 1 and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of February 4, 2020 (85 FR 6169) (FRL-10004-10). The comment period closed on March 5, 2020.

VI. Provisions for Disposition of Existing Stocks

Existing stocks are those stocks of registered pesticide products which are currently in the United States and which were packaged, labeled, and released for shipment prior to the effective date of the action. The existing stocks provision for the products subject to this order is as follows.

A. For Products 464-8123, 10324-18 & 10324-165

For products 464-8123, 10324-18 & 10324-165, listed in Table 1 of Unit II, the registrants have requested 18-months to sell existing stocks. Registrants will be permitted to sell and distribute existing stocks of these products for 18-months after the effective date of the cancellation, which will be the date of publication of the cancellation order in the Federal Register. Thereafter, registrants will be prohibited from selling or distributing these products, except for export consistent with FIFRA section 17 (7 U.S.C. 136o) or for proper disposal.

B. For Products 87262-4, 87262-6, 87262-7 & 87262-8

For products 87262-4, 87262-6, 87262-7 & 87262-8, listed in Table 1 of Unit II, the registrant has requested to sell existing stocks until December 31, 2020. Registrants will be permitted to sell and distribute existing stocks of these products until December 31, 2020. Thereafter, registrants will be prohibited from selling or distributing these products, except for export consistent with FIFRA section 17 (7 U.S.C. 136o) or for proper disposal.

For all other voluntary product cancellations, identified in Table 1 of Unit II, registrants will be permitted to sell and distribute existing stocks of voluntarily canceled products for 1 year after the effective date of the cancellation, which will be the date of publication of the cancellation order in the Federal Register. Thereafter, registrants will be prohibited from selling or distributing all other products identified in Table 1 of Unit II, except for export consistent with FIFRA section 17 (7 U.S.C. 136o) or for proper disposal.

Now that EPA has approved product labels reflecting the requested amendment to terminate uses, registrants are permitted to sell or distribute products listed in Table 2 of Unit II under the previously approved labeling until December 6, 2021, a period of 18 months after publication of the cancellation order in this Federal Register, unless other restrictions have been imposed.

Thereafter, registrants will be prohibited from selling or distributing the products whose labels include the terminated use identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

(Authority: 7 U.S.C. 136 et seq.)

Dated: May 27, 2020.
Delores Barber,
Director, Information Technology and Resources Management Division, Office of Pesticide Programs.

[FR Doc. 2020-12144 Filed 6-4-20; 8:45 am]

BILLING CODE 6560-50-P